DEPARTMENT OF TRANSPORTATION

Federal Aviation Administration

14 CFR Part 183

[Docket No. FAA-2003-16685]

RIN 2120-AH79

Establishment of Organization Designation Authorization Program

ACTION: Final rule; correction.

SUMMARY: This action makes a correction to 14 CFR part 183 by adding two section references that were inadvertently omitted from the final rule published in the Federal Register on October 13, 2005 (70 FR 59932).

DATES: This correction is effective November 14, 2005.

FOR FURTHER INFORMATION CONTACT: For technical issues, Ralph Meyer, Delegation and Airworthiness Programs Branch, Aircraft Engineering Division (AIR-140), Aircraft Certification Service, Federal Aviation Administration, 6500 S. MacArthur Blvd, ARB Room 308, Oklahoma City, OK 73169; telephone (405) 954-7072; facsimile (405) 954-2209, e-mail ralph.meyer@faa.gov. For legal issues, Karen Petronis, Office of the Chief Counsel, Regulations Division (AGC-200), Federal Aviation Administration, 800 Independence Avenue, SW., Washington, DC 20591; telephone (202) 267-3073; facsimile (202) 267-7971; e-mail karen.petronis@faa.gov. [address of original contact person].

SUPPLEMENTARY INFORMATION:

Background

When the FAA issued the final rule, “Establishment of Organization Designation Authorization Program” in October 2005, we inadvertently omitted two section references from paragraph (b) of § 183.15. This paragraph provides for the duration of certificates for Flight Standards or Aircraft Certification Service Designated Representatives. The references omitted were to the sections describing the privileges of pilot examiners (§ 183.23) and technical personnel examiners (§ 183.25). This correction adds those two references to § 183.15(b).

Need for Correction

The omission of these two references could cause confusion with regard to the duration of the two referenced delegations.

List of Subjects in 14 CFR Part 183

Aircraft, Airmen, Authority delegations (Government agencies), Health professions, Reporting and recordkeeping requirements.

Accordingly, 14 CFR part 183 is corrected as follows:

PART 183—REPRESENTATIVES OF THE ADMINISTRATOR

1. The authority citation for part 183 continues to read as follows:

Authority: 31 U.S.C. 9701; 49 U.S.C. 106(g), 40113, 44702, 45303.

2. Revise § 183.15(b) to read as follows:

§ 183.15 Duration of certificates.

* * * * *

(b) Unless sooner terminated under paragraph (c) of this section, a designation as Flight Standards or Aircraft Certification Service Designated Representative as described in §§ 183.23, 183.25, 183.27, 183.29, 183.31, or 183.33 is effective until the expiration date shown on the document granting the authorization.

* * * * *

Issued in Washington, DC on May 10, 2006.
Tony F. Fazio,
Director, Office of Rulemaking, Aviation Safety.

[FR Doc. 06-4626 Filed 5-17-06; 8:45 am]

BILLING CODE 4910-13-P